DEPARTMENT OF EDUCATION

Reauthorization of the Adult Education and Family Literacy Act

AGENCY: Office of Vocational and Adult Education, U.S. Department of Education.

ACTION: Notice of public meetings and request for comment on the reauthorization of the Adult Education and Family Literacy Act.

SUMMARY: The Assistant Secretary announces a series of public meetings and invites comments from the public regarding the reauthorization of programs under the Adult Education and Family Literacy Act (the Act) (Title II of the Workforce Investment Act of 1998).

DATES: We must receive your comments on or before July 30, 2002.

We will hold public meetings about the reauthorization of programs under the Act. The dates, times, and places of the meetings are under PUBLIC MEETINGS elsewhere in this notice.

ADDRESSES: Address all comments concerning the reauthorization of programs under the Act to Gerri Anderson, Conference Manager, 1010 Wayne Avenue, Suite 300, Silver Spring, Maryland 20910; or by using one of the following methods:

1. E-Mail. We encourage you to e-mail your comments to the following address: ganderson@dbconsultinggroup.com.

2. Facsimile. You may submit comments by facsimile at (301) 589-4122.

FOR FURTHER INFORMATION CONTACT: Michael Jones, U.S. Department of Education, 400 Maryland Avenue, SW., room 4521, Mary E. Switzer Building, Washington, DC 20202-7242. Telephone: (202) 205-9260.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Public Meetings

Dates, times, and addresses

We will hold public meetings according to the following schedule:

1. Date: June 3, 2002, Time: 10:30 a.m. to 12:30 p.m.

Location: Oakland Community College, Wallace Smith Theatre, 27055 Orchard Lake Road, Farmington Hills, MI 48334-4579, Phone: (248) 522-3400, Fax: (248) 522-3903

Hotel Information: A limited number of rooms have been reserved at the Best Western Executive Hotel & Suites located at 31525 W. Twelve Mile Road, Farmington Hills, Michigan 48334. To make your reservations, please call 248-553-0000 and refer to “OVAE Public Meeting.” The room rate is $89.27 (tax inclusive) for the reserved rooms on a first come first served basis. Check-in time is 3 p.m., and check-out time is 12 p.m.

2. Date: June 4, 2002, Time: 10:30 a.m. to 12:30 p.m.,

Location: St. Louis Chamber of Commerce, 12th Floor, Meeting Room, 1 Metropolitan Square, St. Louis, MO 63102, Phone: (314) 231-5555, Fax: (314) 206-3277.

Hotel Information: A limited number of rooms have been reserved at the Westin Hotel located at 811 Spruce Street, St. Louis MO 63102. To make your reservations, please call 1-800-937-8461 or 314-621-2000 and refer to “OVAE Public Meeting.” The room rate is $103.34 (tax inclusive) per night for the reserved rooms. Rooms are on a first-come first-served basis. Check-in time is 3 p.m., and check-out time is 12 p.m.

Additional public meetings will be held in California and North Carolina in August 2002. The exact dates, times, and locations to be determined.

Participants

Those who wish to present comments on the reauthorization of Federal support for the Adult Education and Families Literacy Act at one of the public meetings must reserve time on the agenda for that meeting by contacting Gerri Anderson, Conference Manager, 1010 Wayne Avenue, suite 300, Silver Spring, MD 20910. Telephone: (voice) 1(888) 589-4366; fax: (301) 589-4122; or via e-mail at: ganderson@dbconsultinggroup.com

Reservations for presenting comments will be accepted on a first-come, first-served basis.

Participants will be allowed approximately 3 to 5 minutes to present their comments, depending upon the number of individuals who reserve time on the agenda. At the meeting, participants also are encouraged to submit two written copies of their comments. Persons interested in making comments are encouraged to address the issues and questions discussed under SUPPLEMENTARY INFORMATION.

Assistance to Individuals With Disabilities at the Public Meetings

The meeting rooms and proceedings will be accessible to individuals with disabilities. When making reservations, anyone presenting comments at or attending a meeting who needs special accommodations, such as sign language interpreters, Braille materials, and communication access real-time transcription, should inform Gerri Anderson of his or her specific accessibility needs. You should make requests for accommodations at least 10 working days prior to the scheduled meeting date. Although we will attempt to meet a request we receive after that date, we may not be able to make available the requested auxiliary aid or service because of insufficient time to arrange it.

SUPPLEMENTARY INFORMATION:

Invitation To Comment

In addition to soliciting comments during the public meetings, we invite the public to submit written comments on the reauthorization of the Act. We are particularly interested in comments that address the issues and questions described under Key Issues for Public Comment elsewhere in this notice.

During and after the comment period, you may inspect all public comments about the reauthorization by contacting Gerri Anderson, Conference Manager, 1010 Wayne Avenue, suite 300, Silver Spring, MD, between the hours of 8:30 a.m. and 4:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

Background and Description of the Act

The Act authorizes Federal support to States to provide adult education and literacy services, including adult basic education, adult secondary education, English literacy, and family literacy programs of instruction. For Fiscal Year (FY) 2002, Congress appropriated $505 million for these grants to States. Since FY 2000, Congress also has appropriated additional funds for grants to States for integrated English literacy and civics education services to immigrants and other limited English proficient populations. $70 million was appropriated for this purpose for FY 2002.

Under these programs States distribute funds to local providers through a competitive process. Eligible providers include: local educational agencies, community-based organizations, volunteer literacy organizations, correctional education agencies, institutions of higher education, libraries, public housing authorities, and other public or private nonprofit agencies.

The statutory authorization for this program expires on September 30, 2003. In order to contribute in a timely manner to congressional reauthorization discussions, we are beginning a review of this program. To ensure public participation in our review and decision-making, we invite public comment on these issues.

You may obtain an electronic copy of the Act on the Internet at the following site: http://www.ed.gov/offices/OVAE/CTE/legis.html.

Individuals with disabilities may obtain a copy of the Act in an alternative format (e.g., Braille, large print, audiotape, or computer diskette) on request to the contact number listed under FOR FURTHER INFORMATION CONTACT.

Key Issues for Public Comment

Comments are encouraged on the following priority issues.

1. Narrowing the Achievement Gap. The 1992 National Assessment of Adult Literacy (NAALS) indicated that approximately 90 million adults were reading at levels that were insufficient to allow them to fully participate in the economy and obtain new skills necessary for success. In 2002, an updated version of NAALS will be conducted, which will likely indicate that tens of millions of Americans continue to live with low literacy. Yet programs funded under the Act currently serve only about 2.7 million individuals each year. This disparity between available resources and need is likely to persist for the foreseeable future.

• How can we improve the targeting of Federal resources on effective programs that will produce the greatest return on the Federal investment?

• What are the features of effective adult education and literacy programs that should be given higher priority for Federal resources?

• How can we improve the performance of adult education programs, increasing their success in not only increasing the number of completers but also generating more rapid knowledge and skill gains?

• How we can expand the array of services available to support adult learners who are currently not accessing learning through the present system?

• Can non-traditional service providers be better integrated into a multi-faceted delivery system? What changes would promote the delivery of high-quality, accountable services by community-based organizations and faith-based organizations and businesses?

• How should our national program funds be targeted to help States close the achievement gap?

2. Increasing Accountability for Student Performance. The Act established a State accountability system that holds States and other grant recipients accountable for meeting annual, agreed-upon levels of performance on a set of “core indicators” specified in the statute. Do these core indicators measure student performance and demonstrate impact of the federal investment well? How could data be reported differently to enhance their meaning to the public, to students, and to policymakers?

3. Coordination with Federal Employment and Training Programs. Title I of the Workforce Investment Act (WIA) created a one-stop delivery system that links multiple Federal education and training programs in order to make these services more accessible to the public, to reduce duplication of services, and to facilitate coordinated planning across programs. Adult education and literacy programs supported by the Act are “mandatory partners” that are required to participate in the one-stop delivery system. They are also represented on local workforce investment boards that govern the one-stop system in local areas.

• Have the one-stop delivery system's goals of improving public access to adult education services, improving academic achievement, reducing duplication, and facilitating coordination been achieved in local areas? What changes are needed to promote the further attainment of these goals? How have memoranda of understanding [MOUs] among the delivery system's partners worked to benefit the adult education participant?

• States negotiate annual levels of performance for WIA Title I employment programs for a set of “core indicators” that is similar to that established under the Act. Placement in employment, for example, is measured for both WIA Title I and the Act. Should these indicators be measured consistently across these programs and others, using the same population and other definitions? If so, how should this common employment measure be constructed and what definitions should be used? Are there other indicators (e.g., educational attainment) for which there should also be common measurement approaches and definitions?

• Have WIA incentive grants helped States look at ways to promote student achievement across programs and help close the achievement gap?

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 9201, et seq.

Dated: May 22, 2002.
Carol D'Amico,
Assistant Secretary, Office of Vocational and Adult Education.

[FR Doc. 02-13266 Filed 5-24-02; 8:45 am]

BILLING CODE 4000-01-P